ENVIRONMENTAL PROTECTION AGENCY

40 CFR Part 141

[FRL-9925-49-OW]

Notice of a Public Meeting: Regulations Implementing Section 1417 of the Safe Drinking Water Act: Prohibition on Use of Lead Pipes, Solder and Flux

AGENCY: Environmental Protection Agency (EPA).

ACTION: Notice of a public meeting.

SUMMARY: The U.S. Environmental Protection Agency (EPA) announces a public meeting and webinar to obtain input on potential revisions to regulations for the Prohibition on Use of Lead Pipes, Solder and Flux. The Safe Drinking Water Act (SDWA) prohibits the use or introduction into commerce of pipes, pipe or plumbing fittings or fixtures, solder and flux that are not lead free. These revisions are necessary due to SDWA amendments enacted by Congress in the Reduction of Lead in Drinking Water Act of 2011 and the Community Fire Safety Act of 2013.

DATES: The public meeting will be held on April 14, 2015 (1 p.m. to 4:30 p.m., eastern time). This meeting will also be simultaneously broadcast as a webinar, available on the Internet. Persons wishing to participate in the meeting or webinar must pre-register by April 7, 2015, as described in the SUPPLEMENTARY INFORMATION section.

FOR FURTHER INFORMATION CONTACT: More information is available at the following EPA Web site: http://water.epa.gov/drink/info/lead/index.cfm. For questions about this meeting, contact Brian D'Amico, Office of Ground Water and Drinking Water, U.S. Environmental Protection Agency; telephone (202) 566-1069 or email at damico.brian@epa.gov.

SUPPLEMENTARY INFORMATION: To participate in the webinar, you must pre-register by April 7, 2015, at https://leadprohibitionreg.eventbrite.com. If you would like to attend in person, please contact Brian D'Amico at (202) 566-1069 or damico.brian@epa.gov before or by April 7, 2015. The seating for the public meeting and the number of connections available for the webinar are limited and will be available on a first-come, first-served basis. During the meeting and webinar, there will be a time period available for public comments. EPA encourages public input and will allocate time to receive verbal statements on a first-come, first-served basis. Participants will be provided with a set time frame for their statements. It is preferred that only one person present a statement on behalf of a group or organization. To ensure adequate time for public involvement, individuals or organizations interested in presenting an oral statement should notify Brian D'Amico no later than April 7, 2015.

How can I get a copy of the meeting/webinar materials? The meeting materials will provided for those attending the meeting/webinar. EPA will post the materials on the Agency's Web site for persons who are unable to attend the meeting. Please note, the posting of these materials could occur after the meeting.

Special Accommodations: To request special accommodations for individuals with disabilities, please contact Brian D'Amico at (202) 566-1069, or by email to damico.brian@epa.gov, at least five business days prior to the meeting to allow time to process your request.

Dated: March 24, 2015.
Rebecca M. Clark,
Acting Director, Office of Ground Water and Drinking Water.

[FR Doc. 2015-07375 Filed 3-30-15; 8:45 am]

BILLING CODE 6560-50-P